FEDERAL COMMUNICATIONS COMMISSION

47 CFR Parts 2 and 30

[ET Docket No. 21-186; FCC 23-114; FR ID 200939]

Modifying Emissions Limits for the 24.25-24.45 GHz and 24.75-25.25 GHz Bands; Correction

AGENCY: Federal Communications Commission.

ACTION: Proposed rule; correction.

SUMMARY: In this document, the Commission is correcting the docket number in a proposed rule that appeared in the Federal Register on January 29, 2024. The document proposes to implement certain decisions regarding the 24.25-27.5 GHz band made in the World Radiocommunication Conference held by the International Telecommunication Union (ITU) in 2019 (WRC-19). Specifically, the Commission proposes to align part 30 of the Commission's rules for mobile operations with the Resolution 750 limits on unwanted emissions into the passive 23.6-24.0 GHz band that were adopted at WRC-19. These proposed rule changes would help to facilitate the protection of passive sensors used for weather forecasting and scientific research in the 23.6 GHz-24.0 GHz band, while continuing to promote flexible commercial use of the 24.25-24.45 GHz and 24.75-25.25 GHz bands (collectively, 24 GHz band). The Commission also seeks comment on alternatives to the proposals it makes, and on other related issues.

DATES: Comments are due on or before February 28, 2024; reply comments are due on or before March 14, 2024. Written comments on the Initial Regulatory Flexibility Analysis (IRFA) in this document must have a separate and distinct heading designating them as responses to the IRFA and must be submitted by the public on or before February 28, 2024.

FOR FURTHER INFORMATION CONTACT: Simon Banyai of the Wireless Telecommunications Bureau, Broadband Division, at 202-418-1443 or Simon.Banyai@fcc.gov.

SUPPLEMENTARY INFORMATION: The Commission is correcting the Preamble and Regulatory Flexibility Act sections of proposed rule FR Doc. 2024-01681 by correcting the docket number.

Correction

In FR Doc. 2024-01681 appearing on page 5440 in the Federal Register of Monday, January 29, 2024, the following corrections are made:

ET Docket No. 21-186 [Corrected]

1. On page 5440, in the first column, in the Preamble, the Agency Docket Number is corrected to read as “[ET Docket No. 21-186; FCC 23-114; FR ID 198341]”.

2. On page 5440, in the third column, in SUPPLEMENTARY INFORMATION, the Regulatory Flexibility Act section is corrected to read as “The Commission seeks comment on potential rule and policy changes contained in the NPRM, and accordingly, has prepared an IRFA. The IRFA for this NPRM in ET Docket No. 21-186 is set forth below in this document and written public comments are requested. Comments must be filed by the deadlines for comments on the NPRM indicated under the DATES section of this document and must have a separate and distinct heading designating them as responses to the IRFA. The Commission reminds commenters to file in the appropriate docket: ET Docket No. 21-186.”

Federal Communications Commission
Katura Jackson,
Federal Register Liaison Officer.

[FR Doc. 2024-02598 Filed 2-7-24; 8:45 am]

BILLING CODE 6712-01-P